DEPARTMENT OF JUSTICE

Immigration and Naturalization Service

[INS No. 2046-00]

Immigration and Naturalization Service User Fee Advisory Committee; Meeting

AGENCY: Immigration and Naturalization Service, Justice.

ACTION: Notice of meeting.

Committee meeting: Immigration and Naturalization Service User Fee Advisory Committee.

Date and time: Wednesday, May 10, 2000, at 1 p.m.

Place: Immigration and Naturalization Service Headquarters, 425 I Street, NW, Washington, DC 20536, Shaughnessy Conference Room—Sixth Floor.

Status: Open. Twentieth meeting of this Advisory Committee.

Purpose: Performance of advisory responsibilities to the Commissioner of the Immigration and Naturalization Service pursuant to section 286(k) of the Immigration and Nationality Act, as amended, 8 U.S.C. 1356(k) and the Federal Advisory Committee Act, 5 U.S.C. app. 2. The responsibilities of this standing Advisory Committee are to advise the Commissioner of the Immigration and Naturalization Service on issues related to the performance of airport and seaport immigration inspection services. This advice should include, but need not be limited to, the time period during which such services should be performed, the proper number and deployment of inspection officers, the level of fees, and the appropriateness of any proposed fee. These responsibilities are related to the assessment of an immigration user fee pursuant to section 286(d) of the Immigration and Nationality Act, as amended, 8 U.S.C. 1356(d). The Committee focuses attention on those areas of most concern and benefit to the travel industry, the traveling public, and the Federal Government.

Agenda

1. Introduction of the Committee members.

2. Discussion of administrative issues.

3. Discussion of activities since last meeting.

4. Discussion of specific concerns and questions of Committee members.

5. Discussion of future traffic trends.

6. Discussion of relevant written statements submitted in advance by members of the public.

7. Scheduling of next meeting.

Public participation: The meeting is open to the public, but advance notice of attendance is requested to ensure adequate seating. Persons planning to attend should notify the contact person at least 5 days prior to the meeting. Members of the public may submit written statements at any time before or after the meeting to the contact person for consideration by this Advisory Committee. Only written statements received by the contact person at least 5 days prior to the meeting will be considered for discussion at the meeting.

Contact person: Charles D. Montgomery, Office of the Assistant Commissioner, Inspections, Immigration and Naturalization Service, Room 4064, 425 I Street, NW, Washington, DC 20536, telephone: (202) 616-7498, fax: (202) 514-8345, E-mail: charles.d.montgomery@udsoj.gov.

Dated: February 9, 2000.
Doris Meissner,
Commissioner, Immigration and Naturalization Service.

[FR Doc. 00-3811 Filed 2-16-00; 8:45 am]

BILLING CODE 4410-10-M